DEPARTMENT OF THE INTERIOR

Fish and Wildlife Service

Endangered and Threatened Species Permit Applications

AGENCY: Fish and Wildlife, Interior.

ACTION: Notice of permits issued.

SUMMARY: This notice contains a list of Recovery Permits issued under the Endangered Species Act in Region 2 of the Fish and Wildlife Service (Arizona, New Mexico, Oklahoma, and Texas) during 2001.

FOR FURTHER INFORMATION CONTACT: U.S. Fish and Wildlife Service, Chief, Endangered Species Division, Ecological Services, P. O. Box 1306, Room 4102, Albuquerque, New Mexico 87103; (505) 248-6649; (505) 248-6788.

SUPPLEMENTARY INFORMATION: Notice is hereby given that Region 2 of the U.S. Fish and Wildlife Service has issued the following permits, between January 1, 2001, and December 31, 2001, for scientific purposes, enhancement of propagation or survival, or interstate commerce of endangered species from applications duly received according to section 10(a)(1)(A) of the Endangered Species Act of 1973 (Act), as amended. Each permit issued was granted only after it was determined to be applied for in good faith, and that it was consistent with the Act and applicable regulations.

Permittee | Permit No. | Issuance Date
Dennis P. Humphrey | TE035179 | 01/03/01
ECO Plan Associates, Inc | TE830213 | 01/03/01
Westland Resources, Inc | TE834782 | 01/03/01
Lockheed Martin Environmental Services | TE025197 | 01/03/01
La Tierra Environmental Consulting | TE842583 | 01/18/01
SWCA, Inc., Environmental Consultants-Tucson | TE798107 | 02/07/01
The Nature Conservancy of Texas | TE820085 | 02/12/01
James R. Dixon | TE004472 | 02/21/01
Bureau of Land Management-Tucson FO | TE828830 | 02/22/01
Angelo State University | TE006210 | 03/09/01
Gladys Porter Zoo | TE830271 | 03/09/01
Jay K. Esler | TE037684 | 03/15/01
Robert H. Perrill | TE038048 | 03/15/01
Scott Edward Carroll | TE037118 | 03/15/01
Trevor A. Hare | TE038050 | 03/15/01
USDA-Natural Resources Conservation Services | TE038052 | 03/15/01
University of New Mexico | TE038055 | 03/16/01
James C. Cokendolpher | TE035143 | 03/19/01
Tohono O'odham Nation Wildlife and Vegetation Management Project | TE036912 | 03/19/01
Helen K. Yard | TE037789 | 03/22/01
Southwest Texas State University | TE802211 | 03/23/01
Border Wildlife Consultants | TE005180 | 03/26/01
Lincoln National Forest | TE841927 | 03/26/01
The Institute for Bird Populations | TE013143 | 03/30/01
USGS-BRD Sonoran Desert Field Station | TE038608 | 04/02/01
Jack L. Childs | TE038604 | 04/09/01
Viva Environmental, Inc | TE040344 | 04/09/01
Arthur M. Phillips | TE041301 | 04/10/01
Gulf South Research Corporation | TE009926 | 04/10/01
Hualapai Tribe | TE819549 | 04/17/01
Bureau of Reclamation-Denver | TE819475 | 04/24/01
Apache-Sitgreaves National Forest | TE820337 | 04/25/01
Cibola National Forest | TE842565 | 04/30/01
Travis County Transportation and Natural Resources | TE819451 | 04/30/01
Bureau of Land Management-Phoenix, AZ | TE826091 | 05/01/01
Dallas Zoo and Dallas Aquarium | TE829995 | 05/01/01
Terrell H. Johnson | TE798104 | 05/01/01
Texas A&M University-Galveston | TE776123 | 05/01/01
Loomis Austin, Inc | TE841353 | 05/04/01
David W. Willey | TE041871 | 05/09/01
New Mexico Energy, Minerals, and Natural Resources Department | TE820730 | 05/09/01
Bio/West, Inc | TE037155 | 05/10/01
Cecelia M. Smith | TE03968 | 05/10/01
John “Rusty” Mase | TE827369 | 05/10/01
Rocky Mountain Research Station-Albuquerque Lab | TE829118 | 05/11/01
USDA Natural Resources Conservation Service | TE039144 | 05/11/01
SWCA, Inc., Environmental Consultants-Flagstaff, AZ | TE028605 | 05/17/01
Fitz, Inc | TE819491 | 05/18/01
National Parks Service-Saguaro National Park | TE010927 | 05/18/01
Michael R. J. Forstner | TE039544 | 05/22/01
USGS-Colorado Plateau Research Station | TE826897 | 05/22/01
Western New Mexico University | TE000948 | 05/22/01
USGS-BRD Arizona Cooperative Fish &Wildlife Research Unit | TE039466 | 05/23/01
Environmental Defense | TE039731 | 05/23/01
Hawks Aloft | TE835139 | 05/23/01
Organ Pipe Cactus National Monument | TE819458 | 05/23/01
Pima County Parks and Recreation | TE039469 | 05/23/01
Stantec Consulting, Inc | TE828642 | 05/23/01
Sverdrup, Inc. | TE007874 | 05/23/01
The Kauffman Group | TE040346 | 05/23/01
Arizona State University | TE039716 | 05/24/01
Debra A. Yazzie | TE042678 | 05/24/01
Taschek Environmental Consulting, Inc | TE819477 | 05/24/01
Bat Conservation International, Inc | TE039139 | 06/01/01
Logan Simpson Design, Inc | TE006655 | 06/08/01
Celia A. Cook | TE825591 | 06/18/01
Steiner C. Kierce | TE004131 | 06/18/01
USGS-BRD Arizona Cooperative Fish &Wildlife Research Unit | TE039467 | 06/19/01
Bureau of Land Management-Las Cruces Field Office | TE829761 | 06/20/01
Freese and Nichols, Inc | TE024791 | 06/20/01
George Veni | TE026436 | 06/20/01
Lower Colorado River Authority | TE800900 | 06/20/01
Marc A. Baker | TE841795 | 06/20/01
Northwestern Resources Co. | TE037780 | 06/21/01
USDA Forest Service-Coconino National Forest | TE026711 | 06/21/01
SWCA-Phoenix, AZ | TE022749 | 06/22/01
TRC Co., Inc | TE021881 | 06/22/01
SORA (Southwestern Ornithological Research and Adventures) | TE023159 | 06/25/01
Charles A. Bergman | TE042679 | 06/25/01
Kevin L. Hamann | TE041868 | 06/25/01
Kathleen E. Conway | TE042663 | 06/25/01
Marty R. Stratman | TE042659 | 06/25/01
Lynn Cudlip | TE041873 | 06/26/01
University of New Mexico | TE001623 | 06/26/01
Hicks & Company | TE799103 | 06/27/01
University of New Mexico | TE034087 | 07/03/01
SWCA Environmental Consultants | TE819471 | 07/05/01
US Army Headquarters III CORPS and Ft. Hood | TE023643 | 07/05/01
USGS-Denver Field Station | TE826124 | 07/05/01
USGS-Padre Island National Seashore | TE840727 | 07/05/01
Eagle Environmental Consulting, Inc | TE043399 | 07/06/01
Kirk O. Winemiller | TE043061 | 07/09/01
Senna Environmental Services | TE013086 | 07/09/01
Loreen Woolstenhulme | TE041876 | 07/10/01
Marlis R. Douglas | TE042961 | 07/10/01
Thomas Staudt | TE013149 | 07/10/01
Chris Thibodaux | TE028649 | 07/12/01
Arboretum at Flagstaff | TE009792 | 07/13/01
Department of the Army | TE826118 | 07/13/01
Glenn Arthur Proudfoot | TE008218 | 07/13/01
Barbara French | TE039527 | 07/23/01
Peter Sprouse | TE014168 | 07/23/01
Connors State College | TE828963 | 07/26/01
USDA Forest Service-Wildlife Habitat Silviculture Lab | TE832201 | 07/27/01
Charles Rex Wahl | TE042093 | 07/30/01
Gena K. Janssen | TE042662 | 07/30/01
Southland Consulting Services, LLC | TE041877 | 07/30/01
USGS-Biological Resources Division | TE008233 | 07/30/01
Westwater Engineering | TE041874 | 07/30/01
Hubbs-Sea World Research Inst. | TE024429 | 07/31/01
New Mexico Department of Game and Fish | TE815409 | 07/31/01
North Wind Environmental, Inc | TE040342 | 07/31/01
Regional Director, Region 2 | TE676811 | 07/31/01
The Louis Berger Group | TE041869 | 07/31/01
U. S. Forest Service-Coronado National Forest | TE822998 | 07/31/01
Anthony F. Amos | TE830177 | 08/03/01
Damian Fagan | TE043210 | 08/08/01
Environmental Planning Group | TE036436 | 08/08/01
JBR Environmental Consultants, Inc | TE043231 | 08/08/01
Oklahoma Department of Environmental Quality | TE044654 | 08/08/01
Enercon Services, Inc | TE044359 | 08/15/01
Rocky Mountain Research Station | TE814833 | 08/20/01
SWCA, Inc., Environmental Consultants-Austin, TX | TE800611 | 08/20/01
Christiana J. Manville | TE043791 | 08/29/01
URS Corporation | TE833868 | 08/29/01
Philip W. Hedrick | TE044783 | 09/01/01
Cincinnati Zoo & Botanical Garden | TE841901 | 09/04/01
SMS Consulting | TE004811 | 09/04/01
James P. Collins | TE043941 | 09/06/01
City of Austin-Watershed Protection Department | TE833851 | 09/06/01
Southwest Research | TE042958 | 09/06/01
USDA FS-Carson National Forest | TE839848 | 09/10/01
Arizona State University | TE814837 | 09/12/01
PBS&J | TE820022 | 09/12/01
Oklahoma Cooperative Fish & Wildlife Research Unit | TE820283 | 09/14/01
Arizona-Sonoran Desert Museum | TE022190 | 09/20/01
Oklahoma Museum of Natural History | TE799158 | 09/24/01
U. S. Army Corps of Engineers, Albuquerque District | TE797127 | 10/02/01
Engineering & Environmental Consulting, Inc | TE020844 | 10/10/01
William Charles Larson | TE040341 | 10/10/01
SWCA, Inc., Environmental Consultants-Albuquerque, NM | TE045236 | 10/12/01
Albuquerque Biological Park | TE004439 | 10/19/01
Turner Collie & Braden, Inc | TE020819 | 10/24/01
USGS Columbia Environmental Research | TE021847 | 10/25/01
Bureau of Reclamation-Albuquerque Area Office | TE813088 | 10/26/01
The Institute for Bird Populations | TE046937 | 10/26/01
USGS New Mexico Cooperative Fish & Wildlife Research Unit | TE046517 | 10/31/01
Bureau of Land Management-Arizona State Office | TE819538 | 10/31/01
Bureau of Land Management-Kingman Field Office | TE024755 | 11/01/01
Geo-Marine, Inc | TE010472 | 11/01/01
Harris Environmental Group | TE828640 | 11/01/01
Andrea R. Wickham-Rowe | TE016215 | 11/06/01
Greystone Environmental Consultants, Inc | TE042955 | 11/23/01
Nelson Consulting, Inc. | TE046941 | 11/23/01
U. S. Forest Service-Tonto National Forest | TE827726 | 11/23/01
Michael Rigney | TE048609 | 11/26/01
Garcia and Associates | TE039571 | 11/30/01
Janine A. Spencer | TE020661 | 11/30/01
Los Alamos National Laboratory | TE800892 | 12/11/01
US Geological Survey, Cerc. Brd Yankton FRS | TE046447 | 12/11/01
US Bureau of Reclamation-Yuma Area Office | TE040345 | 12/11/01
Michael J.Terrio | TE839510 | 12/20/01

Bryan Arroyo,
Assistant Regional Director, Ecological Services, Region 2, Albuquerque, New Mexico.

[FR Doc. 02-3272 Filed 2-8-02; 8:45 am]

BILLING CODE 4510-55-P